DEPARTMENT OF THE INTERIOR

Bureau of Land Management

[LLCOS000000-L10200000-212L1109AF]

Notice of Colorado's Southwest District Resource Advisory Council Schedule of Quarterly Public Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Southwest Resource Advisory Council (RAC) announces the 2022 schedule of public meetings.

DATES: The Southwest Colorado RAC will meet quarterly in 2022 as follows:

• The RAC will host a field tour on March 2 and a virtual meeting on March 3 from 10 a.m. to 3:30 p.m.

• The RAC will host a field tour on June 1 and a virtual meeting on June 2 from 10 a.m. to 3 p.m.

• The RAC will host a field tour on September 7 and a virtual meeting on September 8 from 10 a.m. to 3 p.m.

• The RAC will host a field tour on December 8 and a meeting on December 9 from 10 a.m. to 3 p.m. at the Uncompahgre Field Office, 2465 S. Townsend Ave., Montrose, CO 81401. The meeting may be held virtually depending on public health recommendations in place at the time of the meeting. Public notice of the change will be posted on the RAC's web page 30 days in advance of the meeting. All field tours will be held from 8 a.m. to 4 p.m. All field tours and meetings are open to the public.

ADDRESSES:

• The March 2 field tour will commence at the Uncompahgre Field Office, 2465 S. Townsend Ave., Montrose, CO 81401. Attendees will then travel to the Dominguez-Escalante National Conservation Area.

• The June 1 field tour will commence at the Tres Rios Field Office, 29211 CO-184, Dolores, CO 81323. Attendees will then travel to the Big Gypsum Valley Uranium Mine.

• The September 7 field tour will commence at the Gunnison Field Office, 210 W. Spencer Ave., Gunnison, CO 81230. Attendees will then travel to the Powderhorn Wilderness Area.

• The December 8 field tour will commence at the Uncompahgre Field Office, 2465 S. Townsend Ave., Montrose, CO 81401. Attendees will then travel to the Jumbo Mountain Travel Management Area. The December 9 meeting will also be held at the Uncompahgre Field Office.

The virtual meetings will be held via the Zoom platform. Registration and participation will be available on the RAC's web page 30 days in advance of the meetings at https://www.blm.gov/get-involved/resource-advisory-council/near-you/colorado/southwest-rac.

FOR FURTHER INFORMATION CONTACT: Shawn Reinhardt, Public Affairs Specialist; BLM Southwest District Office, 2465 S. Townsend Ave., Montrose, CO 81401; telephone: (970) 240-5339; email: sreinhardt@blm.gov. Persons who use a telecommunications device for the deaf (TDD) may call the Federal Relay Service (FRS) at (800) 877-8339 to contact Mr. Reinhardt during normal business hours. The FRS is available 24 hours a day, 7 days a week, to leave a message or question. You will receive a reply during normal business hours.

SUPPLEMENTARY INFORMATION: The 15-member RAC advises the Secretary of the Interior, through the BLM, on a variety of public land issues in the Southwest District, including the Uncompahgre, Tres Rios, and Gunnison Field Offices.

The RAC will conduct a field tour on March 2 to grazing allotments within the bounds of the Uncompahgre Field Office and in the Dominguez-Escalante National Conservation Area. The March 3 virtual meeting will focus on RAC chair nominations and grazing issues within the RAC's jurisdiction, including domestic sheep and Bighorn sheep, drought, and Sage Grouse habitat impacts.

The RAC will conduct a field tour on June 1 to the Big Gypsum Valley Uranium Mine located within the bounds of the Tres Rios Field Office. The June 2 virtual meeting will include an election for chairperson and a review and discussion of the Big Gypsum Valley Uranium Mine, travel management, field manager updates, and an update on grazing issues.

The RAC will conduct a field tour on September 7 to the Powderhorn Wilderness Area Fuels Project. The September 8 virtual meeting will include a grazing update, a review and discussion of the North Powderhorn Fuels Reduction Project, field manager updates, and a presentation and discussion of public lands management within the BLM Colorado's Southwest District.

The RAC will conduct a field tour on December 8 to the Jumbo Mountain Travel Management Area located within the bounds of the Uncompahgre Field Office. The December 9 virtual meeting will include an update and discussion of grazing allotments in North Delta and the Dominguez-Escalante National Conservation Area, field manager updates, and a presentation and continued discussion of public lands management within the BLM Colorado's Southwest District.

A public comment period is scheduled at 2:30 p.m. for the March meeting and at 2 p.m. for June, September, and December meetings. Contingent on the number of people who wish to comment during the public comment period, individual comments may be limited. Written comments may be submitted to the contact listed in the FOR FURTHER INFORMATION CONTACT section of this notice. Comments received at least one week in advance of the meeting will be provided to the RAC members prior to the meeting. Please include “RAC Comment” in your submission.

Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend must RSVP to the BLM Southwest District Office at least 1 week in advance of the field tours to the contact listed in the FOR FURTHER INFORMATION CONTACT section of this notice. Individuals who need special assistance, such as sign language interpretation and other reasonable accommodations, also should contact the person listed in the FOR FURTHER INFORMATION CONTACT section of this notice. The field tours will follow current Centers for Disease Control and Prevention COVID-19 guidance regarding social distancing and wearing of masks. Additional information regarding the meetings will be available on the RAC's web page at https://www.blm.gov/get-involved/resource-advisory-council/near-you/colorado/southwest-rac.

Detailed summary minutes for the RAC meetings will be maintained in the Southwest District Office and will be available for public inspection and reproduction during regular business hours within 30 days following the meeting. Previous minutes and agendas are also available on the RAC's web page.

(Authority: 43 CFR 1784.4-2)

Stephanie Connolly,
Acting BLM Colorado State Director.

[FR Doc. 2022-02509 Filed 2-4-22; 8:45 am]

BILLING CODE 4310-JB-P